DEPARTMENT OF JUSTICE

Notice of Lodging Proposed Consent Decree

In accordance with Departmental Policy, 28 CFR 50.7, notice is hereby given that a proposed consent decree in United States v. Gallo Glass Company, Civil Action No. C 01 3350 JL, (N.D. Cal.), was lodged with the United States District Court for the Northern District of California on November 8, 2001. This proposed Consent Decree concerns a complaint filed by the United States against Gallo Glass Company and Jack Neal and Son, Inc., pursuant to sections 301(a) and 404 of the Clean Water Act, 33 U.S.C. 1311(a) and 1344 and imposes civil penalties against the Defendants for the excavation and deep ripping of 260 acres of wetlands and depositing fill material into approximately 12.5 acres of drainage, swales, and creeks in wetlands adjacent to Washoe Creek, a tributary to the Laguna de Santa Rosa Creek and Russian River, located on Stoney Point, near Cotati, Sonoma County, California. Defendants also cleared vegetation, woody debris, and placed large boulders/rip-rap on approximately 1000 linear feet of Porter Creek in Twin Valley, near Windsor, in Sonoma County.

The proposed Consent Decree requires the payment of civil penalties in the amount of $95,000 and prohibits the discharge of pollutants into the waters of the United States. In addition to the civil penalty, the Consent Decree requires Defendants, at their own expense and subject to approval by the Corps, to provide compensatory mitigation for the filled drainage, swales and creeks in accordance with the approved Mitigation Plan.

The Department of Justice will accept written comments relating to this proposed Consent Decree for thirty (30) days from the date of publication of this notice. Please address comments to Charles O'Connor, United States Attorney's Office, 450 Golden Gate Ave., 16th Floor, San Francisco, CA 94102 and refer to United States v. Gallo Glass Co.

The proposed Consent Decree may be examined at the Clerk's Office, United States District Court for the Northern District of California, 450 Golden Gate Ave., 16th Floor, San Francisco, CA 94102.

Stephen Samuels,
Assistant Section Chief, Environmental Defense Section, Environment and Natural Resources Division.

[FR Doc. 01-30154 Filed 12-4-01; 8:45 am]

BILLING CODE 4410-15-M